DEPARTMENT OF ENERGY

Federal Energy Regulatory Commission

Notice of Application and Applicant Prepared Draft Environmental Assessment Accepted for Filing and Soliciting Motions To Intervene and Protests

November 2, 2001.

Take notice that the following hydroelectric application, including an applicant prepared draft environmental assessment, have been filed with the Commission and are available for public inspection.

a. Type of Application: New Major License.

b. Project No.: 346-037.

c. Date Filed: August 23, 2001.

d. Applicant: Minnesota Power Inc., d.b.a. ALLETE, Inc.

e. Name of Project: Blanchard Hydroelectric Project.

f. Location: On the Mississippi River near the City of Little Falls, in Morrison County, MN. The project occupies federal lands of the Bureau of Land Management.

g. Filed Pursuant to: Federal Power Act 16 U.S.C. 791(a)-825(r).

h. Applicant Contact: Bob Bohm, ALLETE, Inc., P.O. Box 60, Little Falls, MN 56345, rbohm@mnpower.com, 320-632-2318, ext. 5042.

i. FERC Contact: Tom Dean, thomas.dean@ferc.fed.us, 202-219-2778.

j. Deadline for filing motions to intervene and protests: 60 days from the issuance date of this notice.

All documents (original and eight copies) should be filed with: David P. Boergers, Secretary, Federal Energy Regulatory Commissions, 888 First Street, NE., Washington, DC 20426. Comments, protests and interventions may be filed electronically via the internet in lieu of paper. See 18 CFR 385.2001(a)(l)(iii) and the instructions on the Commission's web site under the “e-Filing” link.

The Commission's Rules of Practice require all intervenors filing documents with the Commission to serve a copy of that document on each person that is on the official service list for the project. Further, if an intervenor files comments or documents with the Commission relating to the merits of an issue that may affect the responsibilities of a particular resource agency, they must also serve a copy of the document on that resource agency.

k. The license application has been accepted for filing, but are not ready for environmental analysis.

l. The existing Blanchard Project consists of: (1) A 750-foot-long, 62-foot-high concrete gravity dam comprising: (a) a 190-foot-long non-overflow section; (b) a 437-foot-long gated spillway section; (c) eight 44-foot-wide by 14.7-foot-high Taintor gates; and (d) a 124-foot-wide integral powerhouse; (2) approximately 3,540-foot-long earth dikes extending from both sides of the concrete dam; (3) a 1,152-acre reservoir at normal water surface elevation of 1,081.7 feet NGVD; (4) a powerhouse containing three generating units with a total installed capacity of 18,000 kW; and (5) other appurtenances.

m. Copies of this filing are on file with the Commission and are available for public inspection. This filing may also be viewed on the web at http://www.ferc.gov using the “RIMS” link, select “Docket#” and follow the instructions (call 202-208-2222 for assistance). A copy is also available for inspection and reproduction by contacting the applicant identified in item h above.

n. Anyone may submit a protest or a motion to intervene in accordance with the requirements of Rules of Practice and Procedure, 18 CFR 385.210, 385.211, 385.214. In determining the appropriate action to take, the Commission will consider all protests filed, but only those who file a motion to intervene in accordance with the Commission's Rules may become a party to the proceeding. Any protests or motions to intervene must be received at the Commission on or before the specified deadline date.

All filings must (1) bear in all capital letters the title “PROTEST” or “MOTION TO INTERVENE;” (2) set forth in the heading the name of the applicant and the project number of the application to which the filing pertains; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Linwood A. Watson, Jr.,
Acting Secretary.

[FR Doc. 01-28028 Filed 11-7-01; 8:45 am]

BILLING CODE 6717-01-P